FEDERAL LABOR RELATIONS AUTHORITY

[FLRA Docket Nos. CH-RP-01-0033 and WA-RP-00085]

Notice of Opportunity To Submit Amicus Curiae Briefs in Representation Proceedings Pending Before the Federal Labor Relations Authority

AGENCY: Federal Labor Relations Authority.

ACTION: Notice of the opportunity to file briefs as amici curiae in two proceedings before the Federal Labor Relations Authority in which the Authority is determining the bargaining unit eligibility of employees performing civilian personnel work in other than a purely clerical capacity for fellow agency employees in bargaining units other than the one at issue.

SUMMARY: The Federal Labor Relations Authority is providing an opportunity for all interested persons to file briefs as amici curiae on a significant issue in cases pending before the Authority. The Authority is considering the cases pursuant to its responsibilities under the Federal Service Labor-Management Relations Statute, 5 U.S.C. 7101-7135 (2000) (the Statute) and its regulations, set forth at 5 CFR part 2422. The issue concerns the bargaining unit eligibility of employees performing civilian personnel work in other than a purely clerical capacity for fellow agency employees in bargaining units other than the one at issue.

DATES: Briefs submitted in response to this notice will be considered if received by mail, commercial delivery, or personal delivery in the Authority's Case Control Office by 5 p.m. on November 15, 2002. Placing submissions in the mail by this deadline will not be sufficient. Extensions of time to submit briefs will not be granted.

FORMAT: All briefs shall be captioned “United States Department of the Army, North Central Civilian Personnel Operations Center, Rock Island, Illinois, Case No. CH-RP-01-0033 and United States Department of Justice, Immigration and Naturalization Service, Washington, DC, Case No. WA-RP-00085.” Parties must submit five copies, one of which must contain an original signature, of each amicus brief, on 8½ by 11 inch paper. Briefs must include a signed and dated statement of service that complies with the Authority's regulations showing service of one copy of the brief on all counsel of record or other designated representatives. 5 CFR 2429.27(a) and (c).

The designated representatives in United States Department of the Army, North Central Civilian Personnel Operations Center, Rock Island, Illinois, Case No. CH-RP-01-0033 (North Central Civilian Personnel Operations Center) are: David A. Helmer, Labor Relations Officer, Policy and Program Development Division, Office of the Deputy Chief of Staff for Personnel (G-1), ATTN: DAPE-CP-PPL, 2461 Eisenhower Avenue (Hoffman 1, Room 152), Alexandria, VA 22331; Thomas R. Esparza, Union Representative, AFGE, Local 15, AFL-CIO, Rock Island Arsenal, Bldg. 350, Room 435, Rock Island, IL 61299-6000; William E. Washington, Regional Director, Federal Labor Relations Authority, 55 West Monroe, Suite 1150, Chicago, IL 60603-9729.

The designated representatives in United States Department of Justice, Immigration and Naturalization Service, Washington, DC, Case No. WA-RP-00085 (INS) are: Susan Dole, Agency Representative, Immigration and Naturalization Service, Human Resources Division, 800 K Street NW., Suite 5000, Washington, DC 20536; Linda Church, Union Representative, AFGE, Local 511, AFL-CIO, 7201 South Airport Road, Pembroke Pines, FL 33023; Marjorie K. Thompson, Regional Director, Federal Labor Relations Authority, 1244 Speer Boulevard, Suite 100, Denver, CO 80204-3581.

ADDRESSES: Mail or deliver briefs to Gail D. Reinhart, Director, Case Control Office, Federal Labor Relations Authority, 607 14th Street NW., Room 415, Washington, DC 20424-0001.

FOR FURTHER INFORMATION CONTACT: Gail D. Reinhart, Director, Case Control Office, Federal Labor Relations Authority, (202) 482-6540.

SUPPLEMENTARY INFORMATION: On August 9, 2002, in 58 FLRA No. 3, the Authority granted an application for review of the Regional Director's Decision and Order and Direction of Election in North Central Civilian Personnel Operations Center. In addition, on August 26, 2002, in 58 FLRA No. 4, the Authority granted, in part, an application for review of the Regional Director's Decision and Order on Petition for Clarification of Unit in INS. Summaries of the cases follow. Copies of the Authority's complete decisions may be obtained by telephoning Gail D. Reinhart at the number listed above.

A. Background

1. North Central Civilian Personnel Operations Center

American Federation of Government Employees, Local 15, AFL-CIO (Union), filed a petition seeking an election for representation of certain employees of the Department of the Army, North Central Civilian Personnel Operations Center (Activity), located at the Rock Island, Illinois Arsenal. The Activity provides staffing and classification services to Department of the Army (Agency) employees in the Agency's North Central region. During the processing of this petition, the Activity asserted that employees who performed personnel work for Agency employees outside the proposed bargaining unit should be excluded from the proposed unit under 5 U.S.C. 7112(b)(3), which excludes employees engaged in personnel work in other than a purely clerical capacity from bargaining units.

2. INS

American Federation of Government Employees, Local 511, AFL-CIO (Union), filed a petition seeking to clarify the bargaining unit to include certain employees of the United States Department of Justice, Immigration and Naturalization Service, Washington, D.C. (Activity). During the processing of this petition, the Activity asserted that employees who performed personnel work for Activity employees outside the bargaining unit should be excluded from the bargaining unit under 5 U.S.C. 7112(b)(3).

B. The Regional Directors' Decisions

1. North Central Civilian Personnel Operations Center

The Regional Director (RD) determined that the disputed positions were not excluded from the proposed unit under 5 U.S.C. 7112(b)(3) because these employees were not directly involved in performing personnel work affecting the proposed unit. Accordingly, the RD found that the inclusion of the disputed positions in the proposed unit would not create a conflict of interest between union representation and their job duties. Therefore, the RD concluded that the employees in the disputed positions are not engaged in personnel work within the meaning of 5 U.S.C. 7112(b)(3) and thus were not excluded from the proposed bargaining unit.

2. INS

The RD determined that the disputed positions were excluded from the proposed unit under 5 U.S.C. 7122(b)(3). The RD found that the employees, who provide personnel services for Agency employees in bargaining units other than the unit in which the Union seeks to include them, perform internal personnel work that is directly related to the personnel operations of their Agency. Accordingly, the RD found that the inclusion of the disputed positions in the bargaining unit would create a conflict of interest between union representation and their job duties. Therefore, the RD concluded that the employees in the disputed positions are engaged in personnel work within the meaning of 5 U.S.C. 7112(b)(3) and thus were excluded from the bargaining unit.

C. The Applications for Review

1. North Central Civilian Personnel Operations Center

The Agency filed the application for review, contending that review of the RD's decision is warranted under 5 CFR 2422.31(c), because the decision raises an issue for which there is an absence of precedent and there is a genuine issue over whether the RD failed to apply established precedent.

2. INS

The Union filed the application for review, contending that review of the RD's decision is warranted under 5 CFR 2422.31(c), because the decision raises an issue for which there is an absence of precedent and there is a genuine issue over whether the RD failed to apply established precedent.

D. Questions on Which Briefs are Solicited

In each case, the Authority granted the application for review under 5 CFR 2422.31(c) and directed the parties to file briefs addressing the following questions:

Section 7112(b)(3) of the Statute provides that a bargaining unit is not appropriate if it includes “an employee engaged in personnel work in other than a purely clerical capacity.” Does section 7112(b)(3) operate to exclude employees who perform personnel work concerning other employees of the same agency who are not included in the bargaining unit at issue? In this regard, does the term “personnel work” refer to personnel work of the agency or only to work that concerns other employees of the same bargaining unit?

Because this issue is likely to be of concern to the federal sector labor-management relations community in general, the Authority finds it appropriate to provide for the filing of amicus briefs addressing these questions.

Dated: October 8, 2002.
For the Authority.
Gail D. Reinhart,
Director, Case Control Office.

[FR Doc. 02-26036 Filed 10-10-02; 8:45 am]

BILLING CODE 6727-01-P